DEPARTMENT OF HOMELAND SECURITY

Coast Guard

[USCG-2006-26298]

Homeporting of Four National Security Cutters at Alameda, CA; Final Environmental Assessment and Finding of No Significant Impact

AGENCY: Coast Guard, DHS.

ACTION: Notice of Availability of Final Environmental Assessment and Finding of No Significant Impact.

SUMMARY: The Coast Guard (USCG) announces the availability of the Final Environmental Assessment (EA) and Finding of No Significant Impact (FONSI) for the Commissioning and Homeporting of four National Security Cutters (NSCs) at Coast Guard Island (CGI), Alameda, California. The EA tiers from the USCG's Programmatic Environmental Impact Statement (PEIS) for the Integrated Deepwater System (IDS) Program. The purpose of the proposed action is to replace the four existing 378-foot High Endurance Cutters (WHECs), currently homeported at CGI, with the NSCs. The USCG proposes to replace the WHECs on a one-for-one replacement schedule starting in 2007/2008 and continuing one per year until 2010/2011.

Availability: Electronic copies of the Final EA and FONSI are available from the Docket Management Facility at the U.S. Department of Transportation's Web site at http://dms.dot.gov using the Coast Guard's docket number USCG-2006-26298.

FOR FURTHER INFORMATION CONTACT: If you have questions on this notice, the Final EA or the FONSI, contact CDR Paul Boinay, Coast Guard, telephone 571-218-3382 or by e-mail at Paul.Boinay@dwicgs.com. If you have questions on viewing material on the docket, call Renee V. Wright, Program Manager, Docket Operations, telephone 202-493-0402.

SUPPLEMENTARY INFORMATION:

Proposed Action

To continue to meet America's 21st century maritime threats and challenges, the USCG initiated the Integrated Deepwater System Program, the largest and most innovative acquisition in the Coast Guard's history. The IDS will contribute to the Coast Guard's maritime domain awareness, as well as the improved ability to intercept, engage, and deter those activities that pose a direct challenge/threat to U.S. sovereignty and security. The IDS will provide the means to extend our layered maritime defenses from our ports and coastal areas to hundreds of miles out to sea.

As part of the IDS program, the USCG proposes a NSC home-porting plan that entails home porting four NSCs, some pier improvements, and a new administrative building at CGI in Alameda, California. The four NSCs would replace, on a one-for-one basis, the four aging 378-foot WHECs currently stationed in Alameda.

To accommodate the vessels and crew, in addition to the proposed home porting, improvements to the existing waterfront pier and construction of a new administration building would be required at the existing base to provide adequate shore-side support.

Environmental Assessment

We prepared an Environmental Assessment to identify and examine the reasonable alternatives and assess their potential environmental impact. The EA evaluated the potential direct, indirect and cumulative impacts associated with the NSC homeporting plan on natural, cultural and human resources. The EA tiers from the USCG's Final PEIS for the IDS Program (see notice of availability, 67 FR 15275, Mar. 29, 2002).

Our preferred alternative is to commission and home port the four NSCs into an area where the necessary shore-side infrastructure and port environment already exists to support this class and number of vessels. The existing base on CGI provides the shore support necessary to meet the logistical requirements of the four NSCs. This existing support includes secure facilities, easy access for Coast Guard personnel, administrative and support buildings and services, and required shore ties to service in-port cutters.

Based on a review of the Final EA, which was determined to adequately and accurately discuss the environmental issues and impacts of the proposed action and provides sufficient evidence and analysis for determining that an environmental impact statement is not required, a Finding of No Significant Impact was issued for the preferred alternative of the proposed action.

Dated: May 9, 2007.
J.E. Mihelic,
Chief, Office of Logistics Systems Acquisition.

[FR Doc. E7-14125 Filed 7-20-07; 8:45 am]

BILLING CODE 4910-15-P